SOCIAL SECURITY ADMINISTRATION

The Ticket to Work and Work Incentives Advisory Panel Teleconferences

AGENCY: Social Security Administration (SSA).

ACTION: Notice of teleconferences.

DATES: Wednesday, March 19, 2003 and Wednesday, March 26, 2003.

Teleconferences: Wednesday, March 19, 2003, 1 p.m. to 3 p.m. Eastern time and Wednesday, March 26, 2003, 2 p.m. to 3 p.m. Eastern time.

Ticket to Work and Work Incentives Advisory Panel Conference

Call-in number: 877-546-1568.

Pass code: PANEL.

Leader/Host: Sarah Wiggins Mitchell.

SUPPLEMENTARY INFORMATION:

Type of meeting: These teleconference meetings are open to the public. The interested public is invited to participate by calling into the teleconference at the number listed above. Public testimony will not be taken.

Purpose: In accordance with section 10(a)(2) of the Federal Advisory Committee Act, the Social Security Administration (SSA) announces these teleconference meetings of the Ticket to Work and Work Incentives Advisory Panel (the Panel). Section 101(f) of Public Law 106-170 establishes the Panel to advise the President, the Congress and the Commissioner of SSA on issues related to work incentives programs, planning and assistance for individuals with disabilities as provided under section 101(f)(2)(A) of the Ticket to Work and Work Incentives Improvement Act of 1999 (TWWIIA). The Panel is also to advise the Commissioner on matters specified in section 101(f)(2)(B) of that Act, including certain issues related to the Ticket to Work and Self-Sufficiency Program established under section 101(a) of that Act.

Agenda: The Panel will deliberate on the implementation of TWWIIA and conduct Panel business. The Panel will be discussing its Annual Report to Congress and follow up items from their February Quarterly meeting, including a discussion of SSA's plan for improving its employment support infrastructure.

The agenda for the meetings will be posted on the Internet at http://www.ssa.gov/work/panel/ one week prior to the teleconference or can be received in advance electronically or by fax upon request.

Contact Information: Records are being kept of all Panel proceedings and will be available for public inspection by appointment at the Panel office. Anyone requiring information regarding the Panel should contact the Ticket to Work and Work Incentives Advisory Panel staff by:

• Mail addressed to Ticket to Work and Work Incentives Advisory Panel Staff, Social Security Administration, 400 Virginia Avenue, SW., Suite 700, Washington, DC 20024;

• Telephone contact with Kristen Breland at (202) 358-6430;

• Fax at (202) 358-6440; or

• E-mail to TWWIIAPanel@ssa.gov

Dated: March 3, 2003.
Carol Brenner,
Designated Federal Officer.

[FR Doc. 03-5530 Filed 3-7-03; 8:45 am]

BILLING CODE 4191-02-P